COMMODITY FUTURES TRADING COMMISSION

17 CFR Part 1

RIN 3038-AD53

Adaptation of Regulations to Incorporate Swaps—Records of Transactions; Correction

AGENCY: Commodity Futures Trading Commission.

ACTION: Final rule; correction.

SUMMARY: This document corrects a compliance date stated in the preamble to a notice of final rulemaking published in the Federal Register of December 21, 2012 (77 FR 75523), regarding Adaptation of Regulations to Incorporate Swaps—Records of Transactions.

DATES: This correction to the preamble is effective April 9, 2013.

FOR FURTHER INFORMATION CONTACT: Katherine Driscoll, Associate Director, Division of Swap Dealer and Intermediary Oversight, Commodity Futures Trading Commission, Three Lafayette Centre, 1155 21st Street NW., Washington, DC 20581; 202-418-5544; kdriscoll@cftc.gov.

SUPPLEMENTARY INFORMATION: The Commodity Futures Trading Commission is correcting the preamble of final rules that appeared in the Federal Register on December 21, 2012 (77 FR 75523). The final rulemaking made certain conforming amendments to recordkeeping provisions of regulations 1.31 and 1.35(a) to integrate them more fully with the new statutory framework created by the Dodd-Frank Wall Street Reform and Consumer Protection Act. On page 75530, in the first column, in the Supplementary Information section of the preamble, revise the incorrect text of “[November 28, 2013]” to read “December 21, 2013”.

Issued in Washington, DC, on March 29, 2013, by the Commission.
Christopher J. Kirkpatrick,
Deputy Secretary of the Commission.

[FR Doc. 2013-07797 Filed 4-8-13; 8:45 am]

BILLING CODE 6351-01-P